DEPARTMENT OF HOMELAND SECURITY

Coast Guard

33 CFR Part 165

[Docket No. USCG-2025-0996]

Safety Zones: Los Angeles County Annual New Years Eve Fireworks Event

AGENCY: Coast Guard, DHS.

ACTION: Notification of enforcement of regulation.

SUMMARY: The Coast Guard will enforce a safety zone for the Los Angeles County New Years Eve Fireworks from December 31, 2025 through January 1, 2026. This safety zone is to provide for the safety of life and property on the navigable waterways during these events. Our regulation for fireworks events within the Los Angeles Long Beach Captain of the Port Zone identifies the regulated areas for this fireworks event in Marina del Rey, CA. During the enforcement period, the operator of any vessel in the regulated area must comply with directions from the Patrol Commander or any Official Patrol displaying a Coast Guard ensign.

DATES: The regulations in 33 CFR 165.1125 will be enforced for the locations identified in Table 1 to § 165.1125 Item Number 15, from 8 p.m. on December 31, 2025, through 1 a.m. on January 1, 2026.

FOR FURTHER INFORMATION CONTACT: If you have questions about this notification of enforcement, call or email LCDR Kevin Kinsella, U.S. Coast Guard; telephone 310-521-3860, email D11-SMB-SectorLALB-WWM@uscg.mil.

SUPPLEMENTARY INFORMATION: The Coast Guard will enforce the safety zone in 33 CFR 165.1125 for the Los Angeles County New Years Eve Fireworks regulated area in Item Number 15 of Table 1 to § 165.1125 from 8 p.m. on December 31, 2025, to 1 a.m. on January 1, 2026. This action will be taken to provide for the safety of life on navigable waterways during the event. Our regulation for fireworks events within the Los Angeles Long Beach Captain of the Port Zone, Table 1 to § 165.1125, Item Numbers 15, specifies the location of the regulated area for the Los Angeles County New Years Eve Fireworks display, which encompasses portions of Marina del Rey. During the enforcement period, § 165.1125 requires operators of a vessel in the regulated area to comply with directions from the Patrol Commander or Official Patrol, defined as any Coast Guard or other Federal, state, or local law enforcement assisting the Coast Guard in enforcing the regulated area.

In addition to this notification of enforcement in the Federal Register, the Coast Guard plans to provide notification of this enforcement period via a Marine Safety Information Bulletin (MSIB) and a Broadcast Notice to Mariners (BNM).

Stacey L. Crecy,
Captain, U.S. Coast Guard, Captain of the Port Los Angeles-Long Beach.

[FR Doc. 2025-22557 Filed 12-10-25; 8:45 am]

BILLING CODE 9110-04-P